DEPARTMENT OF EDUCATION

National Committee on Foreign Medical Education and Accreditation

AGENCY: National Committee on Foreign Medical Education and Accreditation (NCFMEA), U.S. Department of Education.

ACTION: Request for nominations for appointment to serve on the National Committee on Foreign Medical Education and Accreditation (NCFMEA).

SUMMARY: Secretary of Education Miguel A. Cardona is seeking nomination(s) of medical experts for appointment of members to fill three NCFMEA member positions with a term of service due to expire on September 30, 2022.

DATES: Nominations must be received no later than Friday, August 5, 2022.

SUPPLEMENTARY INFORMATION: NCFMEA's Statutory Authority and Function: The NCFMEA is authorized per Section 102 of the Higher Education Act of 1965, as amended. The Secretary of Education is required by the Higher Education Act, as amended, to establish a panel of medical experts who shall: evaluate the standards of accreditation applied to foreign medical schools; and determine the comparability of those standards to standards for accreditation applied to United States medical schools. The NCFMEA shall be comprised of 11 voting members each appointed for a term of service as determined by the Secretary of Education. Due consideration shall be given to the appointment of individuals who are broadly knowledgeable about foreign medical education and accreditation and respected in the educational community. Per the authorizing legislation for the Committee, one currently serving member of the NCFMEA, is a medical student enrolled in an accredited medical school at the time of appointment by the Secretary of Education.

Any member appointed to fill a vacancy for a term of service not completed will serve for the remainder of the term of service of her/his predecessor. No member may serve for a period in excess of three consecutive terms. Members of the Committee will serve as Special Government Employees (SGEs), as defined in 18 U.S.C. 202(a). As SGEs, members are selected for their individual expertise, integrity, impartiality, and experience.

Nomination Process: Interested persons, stakeholders, or organizations (including individuals seeking reappointment by the Secretary of Education to serve on the NCFMEA) may nominate a qualified medical expert(s). To submit a nomination(s) or self-nominate for appointment to serve on the NCFMEA, please send a cover letter addressed to the Secretary of Education as follows: Honorable Miguel A. Cardona, Ed.D., Secretary of Education, U.S. Department of Education, 400 Maryland Avenue SW, Washington, DC 20202. In the letter, please note your reason(s) for submitting the nomination. Include a copy of the nominee's current resume/cv and contact information (mailing address, email address, and contact phone number). In addition, the cover letter must include a statement affirming the nominee (if you are nominating someone other than yourself) has agreed to be nominated and is willing to serve on the NCFMEA if appointed by the Secretary of Education. Please submit your nomination(s) including the requested attachments to the U.S. Department of Education, Office of the Secretary, Committee Management via email to: cmtemgmtoffice@ed.gov . (Please specify in the email subject line “NCFMEA Nomination”).

For questions, please contact Karen Akins, U.S. Department of Education, Committee Management Officer, Office of the Secretary, via email at Karen.Akins@ed.gov .

Electronic Access to this Document: The official version of this document is the document published in the Federal Register. You may access the official edition of the Federal Register and the Code of Federal Regulations at www.govinfo.gov. At this site, you can view this document, as well as all other documents of this Department published in the Federal Register.

Miguel A. Cardona,
Secretary of Education.

[FR Doc. 2022-14302 Filed 7-5-22; 8:45 am]

BILLING CODE P